DEPARTMENT OF DEFENSE

Office of the Secretary

Defense Science Board

AGENCY: Department of Defense.

ACTION: Notice of Advisory Committee meeting date change.

SUMMARY: On Thursday, May 9, 2002 (67 FR 31282), the Department of Defense announced closed meetings of the Defense Science Board (DSB) Task Force on Wideband RadioFrequency Systems. One of the meetings advertised has been rescheduled from August 29-30, 2002, to August 28-29, 2002. The meeting will be held at SAIC, 4001 Fairfax Drive, Suite 500, Arlington, VA.

Dated: June 6, 2002.
Patricia L. Toppings,
Alternate OSD Federal Register Liaison Officer, Department of Defense.

[FR Doc. 02-14850 Filed 6-12-02; 8:45 am]

BILLING CODE 5001-08-M